DEPARTMENT OF THE TREASURY

United States Mint

Pricing for the 2015 March of Dimes Silver Dollar

AGENCY: United States Mint, Department of the Treasury.

ACTION: Notice.

SUMMARY: The United States Mint is announcing pricing for the 2015 March of Dimes Silver Dollar as follows:

Coin | Introductory price | Regular price
Silver Proof | $46.95 | $51.95
Silver Uncirculated | 43.95 | 48.95

FOR FURTHER INFORMATION CONTACT: Mary Lhotsky, Acting Associate Director for Sales and Marketing; United States Mint; 801 9th Street NW., Washington, DC 20220; or call 202-354-7500.

Authority: 31 U.S.C. 5111, 5112 & 9701.

Dated: February 6, 2015.
Richard A. Peterson,
Deputy Director for Manufacturing and Quality, United States Mint.

[FR Doc. 2015-02882 Filed 2-11-15; 8:45 am]

BILLING CODE P